SOCIAL SECURITY ADMINISTRATION

[Docket No. SSA-2022-0040]

Agency Information Collection Activities: Proposed Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Comments: https://www.reginfo.gov/public/do/PRAMain. Submit your comments online referencing Docket ID Number [SSA-2022-0040].

(SSA) Social Security Administration, OLCA, Attn: Reports Clearance Director, 3100 West High Rise, 6401 Security Blvd., Baltimore, MD 21235, Fax: 410-966-2830, Email address: OR.Reports.Clearance@ssa.gov.

Or you may submit your comments online through https://www.reginfo.gov/public/do/PRAMain, referencing Docket ID Number [SSA-2022-0040].

I. The information collections below are pending at SSA. SSA will submit them to OMB within 60 days from the date of this notice. To be sure we consider your comments, we must receive them no later than October 11, 2022. Individuals can obtain copies of the collection instruments by writing to the above email address.

1. Plan to Achieve Self-Support (PASS)—20 CFR 416.110(e), 416.1180-416.1182, 416.1225-416.1227—0960-0559. The Supplemental Security Income (SSI) program encourages recipients to return to work. One of the program objectives is to provide incentives and opportunities that help recipients do so. The Plan to Achieve Self-Support (PASS) provision allows individuals to develop a plan to enter (or re-enter) the workforce and become self-supporting. In turn, SSA does not count the income or resources (such as business equipment, education, or specialized training) recipients use to fund a PASS when determining an individual's SSI eligibility or payment amount. An SSI recipient who wants to take advantage of the PASS provision completes Form SSA-545. SSA uses the information from the SSA-545 to evaluate the recipient's PASS, and to determine eligibility under the provisions of the SSI program. The respondents are SSI recipients who want to develop a return-to-work plan.

Type of Request: Revision of an OMB-approved information collection.

Modality of completion | Number of respondents | Frequency of response | Average burden per response (minutes) | Estimated total annual burden (hours) | Average theoretical hourly cost amount (dollars) * | Average field office wait time (minutes) ** | Total annual opportunity cost (dollars) ***
SSA-545 | 7,000 | 1 | 120 | 14,000 | * $11.70 | ** 24 | *** $196,560
* We based this figure on the average DI payments based on SSA's current FY 2022 data (https://www.ssa.gov/legislation/2022factsheet.pdf).
** We based this figure on the average FY 2022 wait times for field offices, based on SSA's current management information data.
*** This figure does not represent actual costs that SSA is imposing on recipients of Social Security payments to complete this application; rather, these are theoretical opportunity costs for the additional time respondents will spend to complete the application. There is no actual charge to respondents to complete the application.

2. Request for Accommodation in Communication Method—0960-0777. SSA allows disabled or impaired Social Security applicants, beneficiaries, recipients, and representative payees to choose one of seven alternative methods of communication they want SSA to use when we send them benefit notices and other related communications. The seven alternative methods we offer are: (1) standard print notice by first-class mail; (2) standard print mail with a follow-up telephone call; (3) certified mail; (4) Braille; (5) Microsoft Word file on data CD; (6) large print (18-point font); or (7) audio CD. Respondents who want to receive notices from SSA through a communication method other than the seven methods listed above must explain their request to us. Those respondents use our iAccomodate Intranet or mySNO internet screens, or the paper Form SSA-9000-F6 to: (1) describe the type of accommodation they want from SSA; (2) disclose their condition necessitating the need for a different type of accommodation; and (3) explain why none of the seven methods described above are sufficient for their needs. SSA uses our internet and Intranet screens or Form SSA-9000-F6 to determine, based on applicable law and regulation, whether to grant the respondents' requests for an accommodation based on their impairment or disability. SSA collects this information electronically through either an in-person telephone interview during which the SSA employee keys in the information on our iAccommodate Intranet screens, or through the mySNO internet screens which respondents may complete for themselves using the application available through their mySSA accounts. The respondents are disabled or impaired Social Security or SSI applicants, beneficiaries, recipients, and representative payees who ask SSA to send notices and other communications in an alternative method besides the seven modalities we currently offer.

Type of Request: Revision of an OMB-approved information collection.

Modality of completion | Number of respondents | Frequency of response | Average burden per response (minutes) | Estimated total annual burden (hours) | Average theoretical hourly cost amount (dollars) * | Average teleservice center wait time (minutes) ** | Total annual opportunity cost (dollars) ***
SSA-9000/iAccommodate | 5,000 | 1 | 20 | 1,667 | * $11.70 | ** 19 | *** $38,025
mySNO | 8,414 | 1 | 20 | 2,805 | * 11.70 |  | *** 32,819
Totals | 13,414 |  |  | 4,472 |  |  | *** 70,844
* We based this figure on the average DI payments based on SSA's current FY 2022 data (https://www.ssa.gov/legislation/2022factsheet.pdf).
** We based this figure on the average FY 2022 wait times for teleservice centers, based on SSA's current management information data.
*** This figure does not represent actual costs that SSA is imposing on recipients of Social Security payments to complete this application; rather, these are theoretical opportunity costs for the additional time respondents will spend to complete the application. There is no actual charge to respondents to complete the application.

Dated: August 3, 2022.
Naomi Sipple,
Reports Clearance Officer, Social Security Administration.

[FR Doc. 2022-16986 Filed 8-8-22; 8:45 am]

BILLING CODE 4191-02-P